Presidential Determination No. 2005-16 of January 4, 2005

Provision of Emergency Disaster Relief Assistance to Twelve Countries Affected by the Asian Tsunami, including the Drawdown Under Section 506(a)(2) of the Foreign Assistance Act of 1961, as Amended, of Articles and Services

Memorandum for the Secretary of State [and] the Secretary of Defense

Pursuant to the authority vested in me by the Constitution and the laws of the United States, including my authority as Commander in Chief, I hereby direct the Secretary of Defense to provide such disaster assistance to Indonesia, Thailand, Sri Lanka, India, Maldives, Malaysia, Burma, Kenya, Somalia, Tanzania, Bangladesh, and the Seychelles as is necessary to prevent further loss of life, as determined by the Secretary of Defense and the Secretary of State.

In addition, pursuant to section 506(a)(2) of the Foreign Assistance Act of 1961, as amended, 22 U.S.C. 2318(a)(2) (FAA), I hereby determine that it is in the national interest of the United States to draw down articles and services from the inventory and resources of the Department of Defense, for the purpose of providing international disaster relief assistance to countries affected by the Asian tsunami.

I therefore direct the drawdown of up to $65 million of defense articles and services from the inventory and resources of the Department of Defense for these countries for the purposes and under the authorities of chapter 9 of part I of the FAA related to international disaster assistance.

The Secretary of State is authorized and directed to report this determination to the Congress and to arrange for its publication in the Federal Register.

B

THE WHITE HOUSE,

Washington, January 4, 2005.

[FR Doc. 05-516

Filed 1-07-05; 8:45 am]

Billing code 4710-10-P